DEPARTMENT OF COMMERCE

Bureau of Export Administration

15 CFR Part 744

[Docket No. 981019261-0020-02]

RIN 0694-AB73

Export Administration Regulations Entity List: Removal of Entities, Revision in License Policy, and Reformat of List

AGENCY: Bureau of Export Administration, Commerce.

ACTION: Final rule.

SUMMARY: On November 18, 1998, the Bureau of Export Administration (BXA) published a rule in the Federal Register (63 FR 64322) that added certain Indian and Pakistani entities to the Entity List in the Export Administration Regulations (EAR). This rule removes 51 Indian entities and modifies one entity's listing. In addition, this rule will revise the license review policy for items classified as EAR99 (items that are subject to the EAR, but are not listed on the Commerce Control List) to Indian and Pakistani government, private and parastatal entities from a presumption of denial to a presumption of approval. Also, to correct two inadvertent errors in the publication of the Entity List, this rule: re-designates one existing Pakistani entry on the list as a government entity instead of a military facility; and re-designates one existing Indian entry on the list as a government entity instead of a private or parastatal entity, while also correcting the organization with which it was previously identified. Finally, after consultation between BXA and the Department of State, the subordinates of Indian and Pakistani organizations that are on the Entity List will be moved to appendix A and appendix B of the Entity List, respectively. BXA anticipates this change in policy will increase the number of license applications submitted to BXA.

DATES: This rule is effective March 17, 2000.

FOR FURTHER INFORMATION CONTACT: Eileen M. Albanese, Director, Office of Exporter Services, Bureau of Export Administration, Telephone: (202) 482-0436.

SUPPLEMENTARY INFORMATION:

Background

In accordance with section 102(b) of the Arms Export Control Act, President Clinton reported to the Congress on May 13, 1998, with regard to India and May 30, 1998, with regard to Pakistan his determinations that those non-nuclear weapon states had each detonated a nuclear explosive device. The President directed in the determination reported to the Congress that the relevant agencies and instrumentalities of the United States take the necessary actions to implement the sanctions described in section 102(b)(2) of that Act. Consistent with the President's directive, the Bureau of Export Administration (BXA) implemented certain sanctions, as well as certain supplementary measures to enhance the sanctions on November 19, 1998 (63 FR 64322).

Based on a consensus decision by the Administration to more tightly focus the sanctions on those Indian entities which make direct and material contributions to weapons of mass destruction and missile programs and items that can contribute to such programs, BXA is removing 51 Indian entities from the Entity list, found in Supplement No. 4 to part 744 of the Export Administration Regulations (EAR), and revising the listing of one Indian entity. In addition, the license application review policy for the export or reexport of items classified as EAR99 to Indian and Pakistani government, private, and parastatal entities will be revised from a presumption of denial to a presumption of approval. The U.S. policy of denial for dual-use items controlled for nuclear proliferation (NP) and missile technology (MT) reasons to all Indian and Pakistani entities remains unchanged, however. Recent Congressional action supports these regulatory revisions. Section 9001(d) of the FY 2000 Defense Appropriations Act (the Act) includes language stating that “it is the sense of Congress that the broad application of export controls to nearly 300 Indian and Pakistani entities is inconsistent with the specific national security interests of the United States and that the control list requires refinement.” The Act also states that it is the sense of Congress that “export controls should be applied only to those Indian and Pakistani entities that make direct and material contributions to weapons of mass destruction and missile programs and only to those items that can contribute to such programs.”

This rule re-designates the Pakistani entity, Gadwal Uranium Enrichment Plant, as a government entity under § 744.11(c)(1) of the EAR, instead of its initial designation of a military entity under § 744.12(c). The license review policy for this entity will remain one of denial for items controlled for NP or MT reasons, except items intended for the preservation of safety of civil aircraft, which will be reviewed on a case-by-case basis; and computers, which will be reviewed with a presumption of denial. All other items subject to the EAR to this listed entity will be reviewed with a presumption of denial, with the exception of items classified as EAR99, which will be reviewed with a presumption of approval, under the new review policy set out by this rule.

This rule re-designates the Uranium Recovery Plant, located in Cochin, India, as a government entity under § 744.11(c)(1) of the EAR, instead of its initial designation of a private/parastatal entity under § 744.11(c)(2). In addition, it revises the organization with which it is identified, as the Department of Atomic Energy (DAE), instead of Fertilizers and Chemicals Travancore (FACT), Uranium Corporation of India, Ltd. (UCIL). The license review policy for this entity will remain one of denial for items controlled for NP or MT reasons, except items intended for the preservation of safety of civil aircraft, which will be reviewed on a case-by-case basis; and computers, which will be reviewed with a presumption of denial. All other items subject to the EAR to this listed entity will be reviewed with a presumption of denial, with the exception of items classified as EAR99, which will be reviewed with a presumption of approval, under the new review policy set out by this rule.

This rule does not change the items subject to sanctions for entities remaining on the list. The Administration will continue to review both the list of sanctioned entities and the scope of licensing requirements over items, and may make additional changes.

The removal of entities from the Entity List does not relieve exporters or reexporters of their obligations under General Prohibition 5 in § 736.2(b)(5) of the EAR which provides that, “you may not, without a license, knowingly export or reexport any item subject to the EAR to an end-user or end-use that is prohibited by part 744 of the EAR.” BXA strongly urges the use of Supplement No. 3 to part 732 of the EAR, “BXA's ‘Know Your Customer’ Guidance and Red Flags” when exporting or reexporting to India and Pakistan.

Entities Removed From Entity List

Ambarnath Machine Tool Prototype Factory

Ambarnath Ordnance Factory

Aruvankadu Cordite Factory

Avadi Combine Engine Plant

Avadi Heavy Vehicle Factory

Avadi Ordnance Clothing Factory

*Bharat Heavy Electrical Limited (BHEL), Hardwar and Ranipet

Bhusawal Ordnance Factory

Chandigarh Ordnance Cable Factory

Chandigarh Ordnance Parachute Factory

Combat Vehicle Research and Development Establishment (CVRDE)

Cossipore Gun and Shell Factory

Defence Bio-Engineering and Electro-Medical Laboratory (DEBEL)

Defence Food Research Laboratory (DFRL)

Defence Institute of Fire Research (DIFR)

Defence Institute of Physiology and Allied Sciences (DIPAS)

Defence Institute of Psychological Research (DIPR)

Defence Institute of Workstudy (DIWS)

Defence Research and Development Unit (DRDU)

Defence Research Laboratory (DRL)

Defence Terrain Research Laboratory (DTRL)

Dehra Dun Opto-Electronics Factory

Dehra Dun Ordnance Factory

Dehu Road Ordnance Factory

Hazratpur Ordnance Equipment Factory

Institute of Mathematical Sciences

Institute of Physics

Institute for Systems Studies and Analyses (ISSA)

Interuniversity Consortium of DAE Facilities

Jabalpur Gray Iron Foundry

Jabalpur Gun Carriage Factory

Kanpur Field Gun Factory

Kanpur Ordnance Parachute Factory

Kanpur Small Arms Factory

Katni Ordnance Factory

Khamaira Ordnance Factory

Kirkee Ammunition Factory

Medak Grey Iron Foundry

Medak Ordnance Factory

Mehta Research Institute of Maths and Math Physics

Naval Chemical and Metallurgical Laboratory (NCML)

Ordnance Factories Staff College

Ordnance Factories Training Institutes

Proof and Experimental Establishment

Saha Institute of Nuclear Physics

Scientific Analysis Group (SAG)

Shahjahanpur Ordnance Clothing Factory

Tata Institute of Fundamental Research

Tiruchchirappalli Heavy Alloy Penetrator Project

Titlagarh Ammunition Plant

Varangaon Ordnance Factory

The Variable Energy Cyclotron Centre (VECC)

*This is a revision, not a deletion. Only two cities of this entity are being removed.

Lastly, subordinate entities of listed Indian and Pakistani organizations have been moved to appendixes to Supplement No. 4 of part 744 (the Entity List). The subordinates will be listed in alphabetical order under a heading listing the organization with which they are identified.

Although the Export Administration Act (EAA) expired on August 20, 1994, the President invoked the International Emergency Economic Powers Act and continued in effect the EAR, and, to the extent permitted by law, the provisions of the EAA in Executive Order 12924 of August 19, 1994, as extended by the President's notices of August 15, 1995 (60 FR 42767), August 14, 1996 (61 FR 42527), August 13, 1997 (62 FR 43629), August 13, 1998 (63 FR 44121), and August 10, 1999 (64 FR 44101, August 13, 1999).

Rulemaking Requirements

1. This final rule has been determined to be not significant for purposes of E.O. 12866.

2. This rule contains and involves collections of information subject to the Paperwork Reduction Act of 1980 (44 U.S.C. 3501 et seq.). These collections have been approved by the Office of Management and Budget under control number 0694-0088, “Multi-Purpose Application,” which carries a burden hour estimate of 40 minutes to prepare and submit electronically and 45 minutes to submit manually on form BXA-748P; and 0694-0111, “India Pakistan Sanctions,” which carries a burden hour estimate of 40 minutes to prepare and submit electronically and 45 minutes to submit manually on form BXA-748P . Notwithstanding any other provision of law, no person is required to respond nor shall any person be subject to a penalty for failure to comply with, a collection of information subject to the requirements of the Paperwork Reduction Act, unless that collection of information displays a currently valid OMB Control Number.

3. This rule does not contain policies with Federalism implications sufficient to warrant preparation of a Federalism assessment under Executive Order 13132.

4. The provisions of the Administrative Procedure Act (5 U.S.C. 553) requiring notice of proposed rulemaking, the opportunity for public participation, and a delay in effective date, are inapplicable because this regulation involves a military and foreign affairs function of the United States (see 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Sharron Cook, Regulatory Policy Division, Bureau of Export Administration, Department of Commerce, P.O. Box 273, Washington, DC 20044.

List of Subjects in 5 CFR Part 744

Exports, Foreign trade, Reporting and recordkeeping requirements.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; E.O. 12058, 43 FR 20947, 3 CFR, 1978 Comp., p. 179; E.O. 12851, 58 FR 33181, 3 CFR, 1993 Comp., p. 608; E.O. 12924, 59 FR 43437, 3 CFR, 1994 Comp., p. 917; E.O. 12938, 59 FR 59099, 3 CFR, 1994 Comp., p. 950; E.O. 13026, 61 FR 58767, 3 CFR, 1996 Comp., p. 228; Notice of November 12, 1998, 63 FR 63589, 3 CFR, 1998 Comp., p. 305; Notice of August 10, 1999, 64 FR 44101 (August 13, 1999).

2. Section 744.11 is amended by revising the introductory text and paragraph (c) to read as follows:

§ 744.11 Restrictions on Certain Government, parastatal, and private entities in Pakistan and India.

To supplement sanctions measures against India and Pakistan, set forth in § 742.16 of the EAR, a prohibition is imposed on exports and reexports to certain government, parastatal, and private entities in India and Pakistan determined to be involved in nuclear or missile activities. With respect to subordinates of listed entities in India and Pakistan, only those specifically listed in Supplement No. 4 to part 744, Entity List, are subject to the restrictions and policies set forth in this section. The addition or deletion of entities to or from Supplement No. 4 to part 744, Entity List, does not relieve you of your obligations under General Prohibition 5 in § 736.2(b)(5) of the EAR: “you may not, without a license, knowingly export or reexport any item subject to the EAR to an end-user or end-use that is prohibited by part 744 of the EAR.” You are urged to use the guidance in Supplement No. 3 to part 732 of the EAR, “BXA's “Know Your Customer’ Guidance and Red Flags” when exporting or reexporting to India and Pakistan.

* * * * *

(c) License review standards. (1) Government entities. Applications to export or reexport items controlled for NP or MT reasons to listed government entities will be denied, except items intended for the preservation of safety of civil aircraft, which will be reviewed on a case-by-case basis; and computers, which will be reviewed with a presumption of denial. Items classified as EAR99 will be reviewed with a presumption of approval. All other items subject to the EAR to these listed entities will be reviewed with a presumption of denial.

(2) Parastatal and private entities. Applications to export or reexport items controlled for NP or MT reasons to certain parastatal and private entities will be denied, except items intended to ensure the safety of civil aviation and safe operation of commercial passenger aircraft, which will be reviewed on a case-by-case basis; and computers, which will be reviewed with a presumption of denial. Items classified as EAR99 will be reviewed with a presumption of approval. All other items subject to the EAR to these listed entities will be reviewed with a presumption of denial. Except for items controlled for NP or MT reasons, exports or reexports to listed parastatals and private entities with whom you have a preexisting business arrangement will be considered on a case-by-case basis, with a presumption of approval in cases where neither the arrangement nor the specific transaction involves nuclear or missile activities and the exports or reexports are pursuant to that arrangement. Because EAR99 items have a license review policy of presumption of approval, you may choose not to provide documentation of such arrangements for those items. The term “business arrangement” covers the full range of business agreements, including general contracts, general terms agreements (e.g., agreements whereby the seller delivers products under purchase orders to be issued by the buyer), general business agreements, offset agreements, letter agreements that are stand-alone contracts, and letter agreements that are amendments to existing contracts or other agreements. The terms of the preexisting business arrangement policy may also apply to the longstanding continued supply of a particular item or items from the exporter to the entity even when there is no current agreement between the firms. BXA, in conjunction with other agencies, will determine eligibility under the preexisting business arrangement policy. In order to be eligible under the policy, you must provide documentation to establish such an arrangement. The documentation should be provided at the time you submit a license application to export or reexport items to any listed parastatal or private entity.

3. Supplement No. 4 to part 744 is amended by removing the entities for India and Pakistan and replacing them with the following list of entities for India and Pakistan, and adding Appendixes A and B to Supplement No. 4 to part 744 to read as follows:

Supplement No. 4 to Part 744—Entity List
Country | Entity | License requirement | License review policy | Federal Register citation
* * * * * * *
INDIA | Aeronautical Development Agency, Ministry of Defense, Bangalore | For all items subject to the EAR | See § 744.11(c)(1) of this part | 63 FR 64322, 11/19/98 [INSERT FR CITE] 3/17/00.]
| Aerospace Division, Hindustan Aeronautics Limited (HAL), Bangalore | For all items subject to the EAR | See § 744.11(c)(2) of this part | 63 FR 64322, 11/19/98 [INSERT FR CITE] 3/17/00.]
| Atomic Energy Commission (AEC) located in Mumbai (formerly Bombay) | For all items subject to the EAR | See § 744.11(c)(1) of this part | 63 FR 64322, 11/19/98 [INSERT FR CITE] 3/17/00.
| Atomic Energy Regulatory Board (AERB), Mumbai (formerly Bombay) | For all items subject to the EAR | See § 744.11(c)(1) of this part | 63 FR 64322, 11/19/98 [INSERT FR CITE] 3/17/00.
| AURO Engineering, Pondicherry | For all items subject to the EAR | See § 744.11(c)(2) of this part | 63 FR 64322, 11/19/98 [INSERT FR CITE] 3/17/00.
| Baroda Ammonia Plant, (collocated with the Baroda Heavy Water Production Facility), Gujarat Fertilizers, Baroda | For all items subject to the EAR | See § 744.11(c)(2) of this part | 63 FR 64322, 11/19/98 [INSERT FR CITE] 3/17/00.
| Bharat Dynamics Limited, Bhanur and Hyderabad | For all items subject to the EAR | See § 744.11(c)(2) of this part | 63 FR 64322, 11/19/98 [INSERT FR CITE] 3/17/00.
| Bharat Earth Movers Limited (BEML), Bangalore | For all items subject to the EAR | See § 744.11(c)(2) of this part | 63 FR 64322, 11/19/98 [INSERT FR CITE] 3/17/00.
| Bharat Electronics Limited (BEL), Bangalore, Ghaziabad, and Hyderabad | For all items subject to the EAR | See § 744.11(c)(2) of this part | 62 FR 26922, 5/16/97; 62 FR 51369, 10/1/97; 63 FR 64322, 11/19/98 [INSERT FR CITE] 3/17/00.
| Bharat Heavy Electrical Limited (BHEL), Trichy (Tiruchirapalli), Hyderabad, and New Delhi | For all items subject to the EAR | See § 744.11(c)(2) of this part | 63 FR 64322, 11/19/98 [INSERT FR CITE] 3/17/00.
| Central Manufacturing Technology Institute, a.k.a. Central Machine Tool Institute, Bangalore | For all items subject to the EAR | See § 744.11(c)(1) of this part | 63 FR 64322, 11/19/98 [INSERT FR CITE] 3/17/00.
| Centre for Development of Advanced Computing, Department of Electronics, Pune | For all items subject to the EAR | See § 744.11(c)(1) of this part | 63 FR 64322, 11/19/98 [INSERT FR CITE] 3/17/00.
| Defence Research and Development Organization (DRDO) located in New Delhi and subordinate entities specifically listed in Appendix A to this supplement | For all items subject to the EAR | See § 744.11(c)(1) of this part | 63 FR 64322, 11/19/98 [INSERT FR CITE] 3/17/00.
| Department of Atomic Energy (DAE) located in Mumbai (formerly Bombay) and the subordinate entities specifically listed in Appendix A to this supplement | For all items subject to the EAR | See § 744.11(c)(1) of this part | 63 FR 64322, 11/19/98 [INSERT FR CITE] 3/17/00.
| Department of Defense Production and Supplies (DDPS) and the subordinate entities specifically listed in Appendix A to this supplement | For all items subject to the EAR having a classification other than EAR99 | See § 744.12(c) of this part | 63 FR 64322, 11/19/98 [INSERT FR CITE] 3/17/00.
| Department of Space (DOS) located in Bangalore and the subordinate entities specifically listed in Appendix A to this supplement | For all items subject to the EAR | See § 744.11(c)(1) of this part | 63 FR 64322, 11/19/98 [INSERT FR CITE] 3/17/00.
| Electronics Corporation of India, Ltd. (ECIL), Hyderabad | For all items subject to the EAR | See § 744.11(c)(2) of this part | 63 FR 64322, 11/19/98 [INSERT FR CITE] 3/17/00.
| Engine Division, Hindustan Aeronautics Limited (HAL), Bangalore | For all items subject to the EAR | See § 744.11(c)(2) of this part | 63 FR 64322, 11/19/98 [INSERT FR CITE] 3/17/00.
| Ferrodie Private Limited (FPL), Thane | For all items subject to the EAR | See § 744.11(c)(2) of this part | 63 FR 64322, 11/19/98 [INSERT FR CITE] 3/17/00.
| Godrej & Boyce Mfg., Co., Ltd., Precision Equipment Division (PED) and Tool Room Division, Mumbai (formerly Bombay) | For all items subject to the EAR | See § 744.11(c)(2) of this part | 63 FR 64322, 11/19/98 [INSERT FR CITE] 3/17/00.
| Hazira Ammonia Plant, (collocated at the Hazira Heavy Water Production Facility) Krishak Bharati Cooperative, Ltd., Hazira | For all items subject to the EAR | See § 744.11(c)(2) of this part | 63 FR 64322, 11/19/98 [INSERT FR CITE] 3/17/00.
| Indian Institute of Science (IIS), Departments of: Aerospace Engineering and Space Technology Cell, Bangalore | For all items subject to the EAR | See § 744.11(c)(1) of this part | 63 FR 64322, 11/19/98 [INSERT FR CITE] 3/17/00.
| Indian Institute of Technology (IIT), Departments of: Aerospace Engineering and Space Technology Cell, Chennai (formerly Madras) | For all items subject to the EAR | See § 744.11(c)(1) of this part | 63 FR 64322, 11/19/98 [INSERT FR CITE] 3/17/00.
| Indian Institute of Technology (IIT), Departments of: Physics, Aerospace Engineering, and Space Technology Cell, Mumbai (formerly Bombay) | For all items subject to the EAR | See § 744.11(c)(1) of this part | 63 FR 64322, 11/19/98 [INSERT FR CITE] 3/17/00.
| Indian Rare Earths, Ltd., (IREL), located in Mumbai (formerly Bombay) and subordinate entities specifically listed in Appendix A to this supplement | For all items subject to the EAR | See § 744.11(c)(2) of this part | 62 FR 35335, 6/30/97; 63 FR 64322, 11/19/98 [INSERT FR CITE] 3/17/00.
| Kirloskar Brothers, Ltd. (KB), Pune | For all items subject to the EAR | See § 744.11(c)(2) of this part | 63 FR 64322, 11/19/98 [INSERT FR CITE] 3/17/00.
| Larsen & Toubro, Ltd. (L&T), Hazira Works, Hazira | For all items subject to the EAR | See § 744.11(c)(2) of this part | 63 FR 64322, 11/19/98 [INSERT FR CITE] 3/17/00.
| Machine Tool Aids & Reconditioning (MTAR), Hyderabad | For all items subject to the EAR | See § 744.11(c)(2) of this part | 63 FR 64322, 11/19/98 [INSERT FR CITE] 3/17/00.
| Mishra Dhatu Nigam, Ltd. (MIDHANI), Hyderabad | For all items subject to the EAR | See § 744.11(c)(2) of this part | 63 FR 64322, 11/19/98 [INSERT FR CITE] 3/17/00.
| National Aerospace Laboratory, Bangalore | For all items subject to the EAR | See § 744.11(c)(1) of this part | 63 FR 64322, 11/19/98 [INSERT FR CITE] 3/17/00.
| National Trisonic Aerodynamic Facility, National Aerospace Laboratory, Bangalore | For all items subject to the EAR | See § 744.11(c)(1) of this part | 63 FR 64322, 11/19/98 [INSERT FR CITE] 3/17/00.
| The Nuclear Power Corporation of India, Ltd. (NPCIL), located in Mumbai (formerly Bombay) and subordinate entities specifically listed in Appendix A to this supplement | For all items subject to the EAR | See § 744.11(c)(2) of this part | 63 FR 64322, 11/19/98 [INSERT FR CITE] 3/17/00.
| Nuclear Science Centre (NSC), New Delhi | For all items subject to the EAR | See § 744.11(c)(1) of this part | 63 FR 64322, 11/19/98 [INSERT FR CITE] 3/17/00.
| Precision Controls, Chennai (formerly Madras) | For all items subject to the EAR | See § 744.11(c)(2) of this part | 63 FR 64322, 11/19/98 [INSERT FR CITE] 3/17/00.
| Rama Krishna Engineering Works (REW), Chennai (formerly Madras) | For all items subject to the EAR | See § 744.11(c)(2) of this part | 63 FR 64322, 11/19/98 [INSERT FR CITE] 3/17/00.
| Talcher Ammonia Plant, (collocated at Talcher Heavy Water Production Facility) Fertilizer Corporation of India, Ltd., Talcher | For all items subject to the EAR | See § 744.11(c)(2) of this part | 63 FR 64322, 11/19/98 [INSERT FR CITE] 3/17/00.
| Thal-Vaishet Ammonia Plant, (collocated at Thal-Vaishet Heavy Water Production Facility), Rashtriya Chemicals & Fertilizers, Thal-Vaishet in Maharashtra | For all items subject to the EAR | See § 744.11(c)(2) of this part | 63 FR 64322, 11/19/98 [INSERT FR CITE] 3/17/00.
| Tuticorin Ammonia Plant, (collocated at Tuticorin Heavy Water Production Facility), Southern Petrochemical Industries Corporation, Tuticorin | For all items subject to the EAR | See § 744.11(c)(2) of this part | 63 FR 64322, 11/19/98 [INSERT FR CITE] 3/17/00.
| Uranium Corporation of India, Ltd. (UCIL), located in Jaduguda and subordinate entities specifically listed in Appendix A to this supplement | For all items subject to the EAR | See § 744.11(c)(2) of this part | 63 FR 64322, 11/19/98 [INSERT FR CITE] 3/17/00.
| Walchandnagar Industries, Ltd. (WIL), Nadu Desarai and Mahad | For all items subject to the EAR | See § 744.11(c)(2) of this part | 63 FR 64322, 11/19/98 [INSERT FR CITE] 3/17/00.
* * * * * * *
PAKISTAN | Abdul Qader Khan Research Laboratories, a.k.a. Khan Research Laboratories (KRL), a.k.a. Engineering Research Laboratories (ERL), Kahuta | For all items subject to the EAR | See § 744.11(c)(1) of this part | 63 FR 64322, 11/19/98 [INSERT FR CITE] 3/17/00.
| Al Technique Corporation of Pakistan, Ltd. | For all items subject to the EAR | See § 744.11(c)(2) of this part | 63 FR 64322, 11/19/98 [INSERT FR CITE] 3/17/00.
| Allied Trading Co. | For all items subject to the EAR | See § 744.11(c)(2) of this part | 63 FR 64322, 11/19/98 [INSERT FR CITE] 3/17/00.
| ANZ Importers and Exporters, Islamabad | For all items subject to the EAR | See § 744.11(c)(2) of this part | 63 FR 64322, 11/19/98 [INSERT FR CITE] 3/17/00.
| Armed Forces Institute of Pathology—Rawalpindi Laboratory | For all items subject to the EAR having a classification other than EAR99 | See § 744.12(c) of this part | 63 FR 64322, 11/19/98.
| Center for Advanced Molecular Biology, Lahore | For all items subject to the EAR having a classification other than EAR99 | See § 744.12(c) of this part | 63 FR 64322, 11/19/98.
| Combat Development Directorate (CDD) | For all items subject to the EAR having a classification other than EAR99 | See § 744.12(c) of this part | 63 FR 64322, 11/19/98.
| Defence Science and Technology Organization (DESTO) located in Rawalpindi and subordinate entities specifically listed in Appendix B to this supplement | For all items subject to the EAR | See § 744.11(c)(1) of this part | 63 FR 64322, 11/19/98 [INSERT FR CITE] 3/17/00.
| Engineering and Technical Services, Islamabad | For all items subject to the EAR | See § 744.11(c)(2) of this part | 63 FR 64322, 11/19/98 [INSERT FR CITE] 3/17/00.
| Engineering Research Laboratories (ERL), a.k.a. Abdul Qader Khan Research Laboratories, a.k.a. Khan Research Laboratories (KRL), Kahuta | For all items subject to the EAR | See § 744.11(c)(1) of this part | 63 FR 64322, 11/19/98 [INSERT FR CITE] 3/17/00.
| Gadwal Ammunition Plant | For all items subject to the EAR having a classification other than EAR99 | See § 744.12(c) of this part | 63 FR 64322, 11/19/98.
| Gadwal Uranium Enrichment Plant | For all items subject to the EAR | See § 744.11(c)(1) of this part | 63 FR 64322, 11/19/98 [INSERT FR CITE] 3/17/00.
| Ghulam Ishaq Khan Institute of Technology, Topai | For all items subject to the EAR | See § 744.11(c)(1) of this part | 63 FR 64322, 11/19/98 [INSERT FR CITE] 3/17/00.
| Golra Ultracentrifuge Plant, Golra | For all items subject to the EAR | See § 744.11(c)(1) of this part | 63 FR 64322, 11/19/98 [INSERT FR CITE] 3/17/00.
| Goth Macchi Nitrogen Fertilizer Plant, Sadiqabad | For all items subject to the EAR having a classification other than EAR99 | See § 744.12(c) of this part | 63 FR 64322, 11/19/98.
| Haripur Nitrogen Fertilizer Plant, Hazara | For all items subject to the EAR having a classification other than EAR99 | See § 744.12(c) of this part | 63 FR 64322, 11/19/98.
| Havelian Explosives and Ammunition Plant | For all items subject to the EAR having a classification other than EAR99 | See § 744.12(c) of this part | 63 FR 64322, 11/19/98.
| High Technologies, Ltd., Islamabad | For all items subject to the EAR | See § 744.11(c)(2) of this part | 63 FR 64322, 11/19/98 [INSERT FR CITE] 3/17/00.
| Karachi CBW Research Institute, University of Karachi's Husein Ebrahim Jamal Research Institute of Chemistry (HEJRIC) | For all items subject to the EAR having a classification other than EAR99 | See § 744.12(c) of this part | 63 FR 64322, 11/19/98.
| Karachi Naval Base and Naval Hqs. And Dockyard | For all items subject to the EAR having a classification other than EAR99 | See § 744.12(c) of this part | 63 FR 64322, 11/19/98.
| Karachi Superphos Fertilizer Plant, Al Noor | For all items subject to the EAR having a classification other than EAR99 | See § 744.12(c) of this part | 63 FR 64322, 11/19/98.
| Khan Research Laboratories (KRL) a.k.a. Abdul Qader Khan Research Laboratories, a.k.a. Engineering Research Laboratories (ERL), Kahuta | For all items subject to the EAR | See § 744.11(c)(1) of this part | 63 FR 64322, 11/19/98; 62 FR 35334, 6/30/97 [INSERT FR CITE] 3/17/00.
| Khewra Soda Ash Plant, Soda Ash Businesses, Soda Ash Works, Khewra Distt. Jhelum, (owned by ICI Pakistan Limited) | For all items subject to the EAR having a classification other than EAR99 | See § 744.12(c) of this part | 63 FR 64322, 11/19/98; 64 FR 14606, 3/26/99
| Lahore Weapons Plant, PEC | For all items subject to the EAR having a classification other than EAR99 | See § 744.12(c) of this part | 63 FR 64322, 11/19/98.
| Lastech Associates, Islamabad. | For all items subject to the EAR | See § 744.11(c)(2) of this part | 63 FR 64322, 11/19/98 [INSERT FR CITE] 3/17/00.
| Machinery Master Enterprises, Islamabad | For all items subject to the EAR | See § 744.11(c)(2) of this part | 63 FR 64322, 11/19/98 [INSERT FR CITE] 3/17/00.
| Maple Engineering Pvt. Ltd. Consultants, Importers and Exporters | For all items subject to the EAR | See § 744.11(c)(2) of this part | 63 FR 64322, 11/19/98 [INSERT FR CITE] 3/17/00.
| Mirpur Nitrogen Fertilizer Plant, Mathelo | For all items subject to the EAR having a classification other than EAR99 | See § 744.12(c) of this part | 63 FR 64322, 11/19/98.
| Modern Engineering Services, Ltd., Islamabad | For all items subject to the EAR | See § 744.11(c)(2) of this part | 63 FR 64322, 11/19/98 [INSERT FR CITE] 3/17/00.
| Multan Chemical Fertilizer Plant | For all items subject to the EAR having a classification other than EAR99 | See § 744.12(c) of this part | 63 FR 64322, 11/19/98.
| National Development Centre | For all items subject to the EAR | See § 744.11(c)(1) of this part | 62 FR 35335, 6/30/97; 63 FR 64322, 11/19/98 [INSERT FR CITE] 3/17/00.
| National Institute of Biotechnology and Genetic Engineering, Faisalabad | For all items subject to the EAR having a classification other than EAR99 | See § 744.12(c) of this part | 63 FR 64322, 11/19/98.
| Orient Importers and Exporters, Islamabad | For all items subject to the EAR | See § 744.11(c)(2) of this part | 63 FR 64322, 11/19/98 [INSERT FR CITE] 3/17/00.
| Pakistan Atomic Energy Commission (PAEC) located in Islamabad and subordinate entities specifically listed in Appendix B to this supplement | For all items subject to the EAR | See § 744.11(c)(1) of this part | 63 FR 64322, 11/19/98 [INSERT FR CITE] 3/17/00.
| Pakistan Institute for Nuclear Science and Technology (PINSTECH) located in Islamabad and subordinate entities specifically listed in Appendix B to this supplement | For all items subject to the EAR | See § 744.11(c)(1) of this part | 62 FR 35334, 6/30/97; 63 FR 64322, 11/19/98 [INSERT FR CITE] 3/17/00.
| Pakistan Ordnance Factories | For all items subject to the EAR | See § 744.11(c)(1) of this part | 63 FR 64322, 11/19/98 [INSERT FR CITE] 3/17/00.
| People's Steel Mills, Karachi | For all items subject to the EAR | See § 744.11(c)(1) of this part | 63 FR 64322, 11/19/98 [INSERT FR CITE] 3/17/00.
| Prime International | For all items subject to the EAR | See § 744.11(c)(2) of this part | 63 FR 64322, 11/19/98 [INSERT FR CITE] 3/17/00.
| Saniwal Ammunition Plant | For all items subject to the EAR having a classification other than EAR99 | See § 744.12(c) of this part | 63 FR 64322, 11/19/98.
| Scientific and Technical Technology, Ltd., Islamabad | For all items subject to the EAR | See § 744.11(c)(2) of this part | 63 FR 64322, 11/19/98 [INSERT FR CITE] 3/17/00.
| Sihala Ultracentrifuge Plant, Sihala | For all items subject to the EAR | See § 744.11(c)(1) of this part | 63 FR 64322, 11/19/98 [INSERT FR CITE] 3/17/00.
| Space and Upper Atmospheric Research Commission (SUPARCO) and subordinate entities specifically listed in Appendix B to this supplement | For all items subject to the EAR | See § 744.11(c)(1) of this part | 63 FR 64322, 11/19/98 [INSERT FR CITE] 3/17/00.
| Space Research Council | For all items subject to the EAR | See § 744.11(c)(1) of this part | 63 FR 64322, 11/19/98 [INSERT FR CITE] 3/17/00.
| Technical Services, Islamabad | For all items subject to the EAR | See § 744.11(c)(2) of this part | 63 FR 64322, 11/19/98 [INSERT FR CITE] 3/17/00.
| The Tempest Trading Company, Islamabad | For all items subject to the EAR | See § 744.11(c)(2) of this part | 63 FR 64322, 11/19/98 [INSERT FR CITE] 3/17/00.
| Unique Technical Promoters | For all items subject to the EAR | See § 744.11(c)(2) of this part | 63 FR 64322, 11/19/98 [INSERT FR CITE] 3/17/00.
| Wah Chemical Product Plant | For all items subject to the EAR having a classification other than EAR99 | See § 744.12(c) of this part | 63 FR 64322, 11/19/98.
| Wah Munitions Plant, a.k.a. Explosives Factory, Pakistan Ordnance Factories (POF) | For all items subject to the EAR | See § 744.11(c)(1) of this part | 63 FR 64322, 11/19/98 [INSERT FR CITE] 3/17/00.
* * * * * * *

Appendix A to Supplement No. 4 to Part 744 (Entity List)—Listed Subordinates of Listed Indian Organizations

The subordinates listed in this appendix are considered listed entities to the Entity List. Subordinates have the same license requirements and review policy as the organizations they are identified under. The subordinates in this appendix are listed in alphabetical order under the organization that they are identified with, which are also listed in alphabetical order.

Defence Research and Development Organization (DRDO):

Aerial Delivery Research and Development Establishment (ADRDE), Agra

Aeronautical Development Establishment (ADE), Bangalore

Armament Research and Development Establishment (ARDE), Pune

Centre for Aeronautical Systems Studies and Analysis (CASSA), Bangalore

Defence Electronics Applications Laboratory (DEAL), Dehra Dun

Defence Electronics Research Laboratory (DERL or DLRL), Hyderabad

Defence Laboratory (DL), Jodhpur

Defence Materials and Store Research and Development Establishment (DMSRDE), Kanpur

Defence Metallurgical Research Laboratory (DMRL), Hyderabad

Defence Research and Development Establishment (DRDE), Gwalior

Defence Research and Development Laboratory (DRDL), Hyderabad

Defence Science Centre (DSC), New Delhi

Electronics and Radar Development Establishment (ERDE or LRDE), Bangalore

Explosive Research and Development Laboratory (ERDL), Pune

Gas Turbine Research Establishment (GTRE), Bangalore

Institute of Armament Technology (IAT), Pune

Instruments Research and Development Establishment (IRDE), Dehra Dun

The Missile Research and Development Complex, Imarat, Hyderabad

National Test Range, Baliabad

Naval Physical and Oceanographic Laboratory (NPOL), Cochin

Naval Science and Technological Laboratory (NSTL), Vishakhapatnam

Research and Development Establishment (Engineers) (R&DE (ENGRS)), Pune

Solid State Physics Laboratory (SSPL), New Delhi

Terminal Ballistics Research Laboratory (TBRL), Chandigarh

Vehicles Research and Development Establishment, Ahmednagar

Department of Atomic Energy (DAE):

Advanced Fuel Fabrication Facility, Tarapur

Aspara Research Reactor, Trombay

The Atomic Minerals Division (AMD), Hyderabad

Baroda Heavy Water Production Facility, Baroda

Beryllium Machining Facility, Mumbai

Bhabha Atomic Research Center (BARC), Trombay/Mumbai

Board of Radiation and Isotope Technology (BRIT), Mumbai

Boron Enrichment Plant, Trombay

Central Workshops, Trombay

Centre for Advanced Technology (CAT), Indore

Centre for the Compositional Characterization of Materials, Hyderabad

Ceramic Fuels Fabrication Plant, Hyderabad

Cirus Reactor, Mumbai

Construction Services and Estate Management Group, Mumbai

Dhruva Reactor, Mumbai

Directorate of Purchase and Stores (DPS), Mumbai

Fast Breeder Test Reactor (FBTR), Kalpakkam

Fast Reactor Fuel Reprocessing Plant (FRFRP), Kalpakkam

General Services Organization, Kalpakkam

Hazira Heavy Water Production Facility, Hazira

Heavy Water Board, Mumbai

Indira Gandhi Center for Atomic Research (IGCAR), Kalpakkam

Kalpakkam Reprocessing Plant (KARP), (a.k.a. Kalpakkam Fuel Reprocessing Plant), Kalpakkam

Kamini Research Reactor, Kalpakkam

Kota Heavy Water Production Facility, Kota

Manuguru Heavy Water Production Facility, Manuguru

Nangal Heavy Water Production Facility, Nangal

New Zirconium Sponge Plant, Hyderabad

Nuclear Fuel Complex (NFC), Hyderabad

Plutonium Reprocessing Plant, Trombay

PREFRE Reprocessing Plant, Tarapur

Prototype Fast Breeder Reactor (PFBR), Kalpakkam

Purinima Facility, Trombay

Special Materials Plant, Hyderabad

Talcher Heavy Water Production Facility, Talcher

Thal-Vaishet Heavy Water Production Facility, Thal-Vaishet in Maharashtra

Trombay Reprocessing Plant, Trombay

Tuticorin Heavy Water Production Facility, Tuticorin

Uranium Conversion Plant, Trombay

Uranium Enrichment Plant, Trombay

Uranium Fuel Assembly Plant, Hyderabad

Uranium Recovery Plant, Cochin

Zirconium Fabrication Plant, Hyderabad

Department of Defense Production and Supplies (DDPS):

Ambajhari Ordnance Factory

Chanda Ammunition Loading Plant

Chanda Ordnance Factory

Dum Dum Ordance Factory

Ishapore Metal and Steel Factory

Ishapore Rifle Factory

Itarsi Ordnance Factory

Kanpur Ordnance Equipment Factory

Kanpur Ordnance Factory

Kirkee High Explosives Factory

Muradnagar Ordnance Factory

Ordnance Factory Board

Tiruchchirappalli Ordnance Factory

Department of Space (DOS):

Ammonium Perchlorate Experimental Plant, Alwaye

Indian Space Research Organization (ISRO), Bangalore

Interim Test Range (ITR), Balasore

ISRO Inertial Systems Unit (IISU), Thiruvananthapura

Liquid Propulsion Systems Centre, Bangalore

Liquid Propulsion Systems Centre, Thiruvananthapuram or Valiamala

Liquid Propulsion Test Facility, Mahendragiri

Meteorological Rocket Station, Balasore

Physical Research Laboratory (PRL), Ahmadabad

Solid Propellant Space Booster Plant (SPROB)

Space Applications Centre (SAC), Ahmadabad

Space Physics Laboratory (SPL),Thiruvananthapuram

Sriharikota Space Centre (SHAR), Andhra Pradesh

Thumba Equatorial Rocket Launching Station

Vikram Sarabhai Space Centre (VSSC), Thiruvananthapuram

Indian Rare Earths, Ltd. (IREL):

India Minerals Separation Plants, Chhatrapur, Orissa, and Chavara

The Mineral Sand Separation Complex, Chhatrapur in the Gunjan District of Orissa

Minerals Recovery Plant, Chavara

Orissa Sands Complex (OSCOM), Chhatrapur in the Gunjan District of Orissa

Rare Earth Development Laboratory, Trombay

Rare Materials Plant, Mysore

Thorium Plant, Chhatrapur

Zirconium Oxide Plant, Manavalakuruchi

The Nuclear Power Corporation of India, Ltd. (NPCIL):

Heavy Water Upgrade Plant, Kakrapar

Kaiga Atomic Power Project (KAPP), Kaiga

Kakrapar Atomic Power Station (KAPS), Kakrapar

Kundankulam Atomic Power Project, Kundankulam

Madras Atomic Power Station (MAPS), Kalpakkam

Narora Atomic Power Station (NAPS), Bullandshahr (Uttar Pradesh)

Rajasthan Atomic Power Station (RAPS) and Rajasthan Atomic Power Project, Rawatbhata

Tarapur Atomic Power Station (TAPS) and Tarapur Atomic Power Project, Tarapur

Uranium Corporation of India, Ltd. (UCIL):

Bhatin Uranium Mine and Mill, Bhatin

Jaduguda Uranium Mine and Mill, Jaduguda

Narwapahar Uranium Mine and Mill, Narwapahar

Uranium Mine and Mill, Narwapahar, Jaduguda, and Bhatin

Uranium Mine, Turamdih

Uranium Recovery Plants, Mosabini (a.k.a. Masabeni), Rakha and Surda (a.k.a. Surdat)

Appendix B to Supplement No. 4 to Part 744 (Entity List)—Listed Subordinates of Listed Pakistani Organizations

The subordinates listed in this appendix are considered listed entities to the Entity List. Subordinates have the same license requirements and review policy as the organizations they are identified under. The subordinates in this appendix are listed in alphabetical order under the organization that they are identified with, which are also listed in alphabetical order.

Defence Science and Technology Organization (DESTO):

Chaklala Defense Science and Technology Organization

Daud Khel Chemical Plant, Lahore

Karachi CBW & BW Warfare R&D Laboratory

Pakistan Atomic Energy Commission (PAEC):

Atomic Energy Minerals Centre, Lahore

Baghalchur Uranium Mine, Baghalchur

Center for Nuclear Studies, Islamabad (also PINSTECH)

Chasma Fuel Fabrication Plant, Kundian

Chasma Nuclear Power Plant (CHASNUPP), Kundian

Computer and Development Division, KANUPP Institute of Nuclear Power Engineering (KINPOE)

Computer Training Center (also PINSTECH), Islamabad

Dera Ghazi Khan Uranium Mine, Dera Ghazi Khan

Directorate of Technical Development

Directorate of Technical Equipment

Directorate of Technical Procurement

Hard Rock Division, Penshawar

Hawkes Bay Depot

Heavy Water Production Plant, KANUPP, Karachi

Institute of Nuclear Power, Islamabad

Issa Khel/Kubul Kel Uranium Mines and Mills, Miniawali District

Karachi Nuclear Power Plant (KANUPP), Karachi

KANUPP Institute of Nuclear Power Engineering (KINPOE), Karachi

Khushab Reactor, Khushab, Punjab

Mineral Sands Program, Karachi

Multan Heavy Water Production Facility, Multan Division, Punjab

National Engineering Service of Pakistan, CHASMA Nuclear Power Plant (CHASNUPP), Kundian

Science and Engineering Services Directorate

Uranium Conversion Facility, Islamabad

Pakistan Institute for Nuclear Science and Technology (PINSTECH):

New Laboratories, Rawalpindi

Nuclear Track Detection Center

Parr-1 Research Reactor

Parr-2 Research Reactor

Pilot Reprocessing Plant, New Laboratories

Solid State Nuclear Track Detection Center

Space and Upper Atmospheric Research Commission (SUPARCO):

Aerospace Institute, Islamabad

Computer Center, Karachi

Control System Laboratories

Flight Test Range, Sonmiani Beach

Instrumentation Laboratories, Karachi

Material Research Division

Quality Control and Assurance Unit

Rocket Bodies Manufacturing Unit

Solid Composite Propellant Unit

Space and Atmospheric Research Center, Karachi

Static Test Unit, Karachi

Dated: March 14, 2000.
Iain S. Baird,
Deputy Assistant Secretary for Export Administration.

[FR Doc. 00-6653 Filed 3-14-00; 3:06 pm]

BILLING CODE 3510-33-P